DEPARTMENT OF JUSTICE

Notice of Lodging of Proposed Consent Decree Under the Toxic Substances Control Act

On April 18, 2014, the Department of Justice lodged a proposed consent decree with the United States District Court for the Southern District of Illinois in the lawsuit entitled United States v. Lowe's Home Centers, LLC, Civil Action No. 3:14-cv-00449.

The United States' lawsuit against Lowe's Home Centers, LLC (“Lowe's”) alleges violations of sections 402(c), 406(b), and 407 of Title IV of the Toxic Substances Control Act (“TSCA”), 15 U.S.C. 2682(c), 2686(b), and 2687, and the regulations promulgated thereunder related to lead based paint, at identified home improvement renovations in the Southern District of Illinois and elsewhere. The proposed consent decree requires Lowe's to implement procedures that will help ensure compliance with TSCA's requirements and pay a civil penalty of $500,000.

The publication of this notice opens a period for public comment on the consent decree. Comments should be addressed to the Assistant Attorney General, Environment and Natural Resources Division, and should refer to United States v. Lowe's Home Centers, LLC, D.J. Ref. No. 90-5-1-1-10673. All comments must be submitted no later than thirty (30) days after the publication date of this notice. Comments may be submitted either by email or by mail in the following manner:

To submit comments: | Send them to:
By e-mail | pubcomment-ees.enrd@usdoj.gov.
By mail | Assistant Attorney General U.S. DOJ—ENRD P.O. Box 7611 Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $10.25 (25 cents per page reproduction cost) payable to the United States Treasury.

Karen Dworkin,
Assistant Chief, Environmental Enforcement Section, Environment and Natural Resources Division.

[FR Doc. 2014-09299 Filed 4-23-14; 8:45 am]

BILLING CODE 4410-15-P